ENVIRONMENTAL PROTECTION AGENCY

[ER-FRL-8589-03]

Environmental Impacts Statements; Notice of Availability

Responsible Agency: Office of Federal Activities, General Information (202) 564-7167 or http://www.epa.gov/compliance/nepa/.

Weekly receipt of Environmental Impact Statements Filed 12/29/2008 Through 01/02/2009 Pursuant to 40 CFR 1506.9.

EIS No. 20080543, Draft EIS, NRC, NY, Generic—License Renewal of Nuclear Plants, Supplement 38 to NUREG-1437, Regarding Indian Point Nuclear Generating Unit Nos. 2 and 3, Westchester County, NY, Comment Period Ends:03/11/2009, Contact: Andrew Stuyvenberg 301-415-4006.

EIS No. 20080544, Draft EIS, FHW, MO, MO-63 Corridor Improvement Project, To Correct Roadway Deficiencies, Reduce Congestion and Provide Continuity along the MO-63 Corridor on the Existing Roadway and on New Location, Osage, Maries and Phelps Counties, MO, Comment Period Ends:03/02/2009, Contact: Peggy Casey 573-636-7104.

EIS No. 20090000, Final EIS, COE, FL, South Florida Water Management District (SFWMD) Project, Propose to Construct and Operate Stormwater Treatment Areas (STAs) on Compartments B and C of the Everglades Agriculture Area, U.S. Army COE Section 404 Permit, Palm Beach and Hendry Counties, FL, Wait Period Ends: 02/09/2009, Contact: Tori White 561-472-3517.

Amended Notices

EIS No. 20080484, Draft EIS, NOA, AK, Bering Sea Chinook Salmon Bycatch Management, Establish New Measures to Minimize Chinook Salmon Bycatch, To Amend the Fishery Management Plan, Implementation, Bering Sea Pollock Fishery, AK, Comment Period Ends: 02/23/2009, Contact: Gretchen Harrington 907-586-7228.

Revision to FR Notice Published 12/05/2008: Extending Comment Period from 02/03/2009 to 02/23/2009.

Dated: January 6, 2009.
Robert W. Hargrove,
Director, NEPA Compliance Division, Office of Federal Activities.

[FR Doc. E9-212 Filed 1-8-09; 8:45 am]

BILLING CODE 6560-50-P